FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 14, 2015.

A. Federal Reserve Bank of Chicago (Colette A. Fried, Assistant Vice President) 230 South LaSalle Street, Chicago, Illinois 60690-1414:

1. William M. Pfeffer, New Berlin, Illinois, individually and acting in concert with Mary Bobett Gerlach, Springfield, Illinois; Betsy Pech, Lincoln, Illinois; and Barbara Pfeffer, Herrin, Illinois, as beneficiaries of the Robert Pfeffer Trust, as amended June 14, 1999; to acquire voting shares of WB Bancorp, Inc., and thereby indirectly acquire voting shares of Warren-Boynton State Bank, both in New Berlin, Illinois.

B. Federal Reserve Bank of St. Louis (Yvonne Sparks, Community Development Officer) P.O. Box 442, St. Louis, Missouri 63166-2034:

1. Smith Stock Ownership Trust, Guy Richard Smith and Courtney B. Smith Miller as trustees; all of Hot Springs, Arkansas; to acquire voting shares of Smith Associated Banking Corporation, Hot Springs, Arkansas, and thereby indirectly acquire voting shares of Bank of Salem, Salem, Arkansas, and Security Bank, Stephens, Arkansas.

C. Federal Reserve Bank of Kansas City (Dennis Denney, Assistant Vice President) 1 Memorial Drive, Kansas City, Missouri 64198-0001:

1. Cheryl A. Carr, Brett S. Carr, both of Wichita, Kansas; Nancy B. Carr, Terry L. Carr, both of Leawood, Kansas; and Erin B. Hamell, Andover, Kansas; to become part of the Carr family group acting in concert, and to acquire voting shares of Community State Bancshares, Inc., and thereby indirectly acquire voting shares of Community Bank of Wichita, Inc., both in Wichita, Kansas.

Board of Governors of the Federal Reserve System, August 25, 2015.
Michael J. Lewandowski,
Associate Secretary of the Board.

[FR Doc. 2015-21313 Filed 8-27-15; 8:45 am]

BILLING CODE 6210-01-P